DEPARTMENT OF LABOR

Employment and Training Administration

[TA-W-39, 179, TA-W-39, 179A]

Rockwell Collins Passenger Systems Irvine, CA and Rockwell Collins Passenger Systems Pomona, CA; Amended Certification Regarding Eligibility To Apply for Worker Adjustment Assistance

In accordance with section 223 of the Trade Act of 1974 (19 USC 2273) the Department of Labor issued a Notice of Certification Regarding Eligibility To Apply for Worker Adjustment Assistance on July 16, 2001, applicable to workers of Rockwell Collins, Passenger Systems, located in Irvine and Pomona, California. The notice was published in the Federal Register on August 6, 2001 (66 FR 41053).

At the request of the State agency, the Department reviewed the certification for workers of the subject firm. The company reports that Rockwell Collins produces more that one in-flight entertainment system. Review of the investigation file shows that 8.6″ Boeing retract for PAVES in-flight entertainment system was the only article produced at the Passenger Systems Division transferred to a foreign country and being imported by the company.

The intent of the Department's certification is to include only those workers of Rockwell Collins, Passenger Systems, Irvine and Pomona, California, adversely affected by increases in imports. Accordingly, the Department is amending the certification to limit the worker group coverage to those engaged in activities related to the production of 8.6″ Boeing retract for PAVES in-flight entertainment systems.

The amended notice applicable to TA-W-39, 179, is hereby issued as follows:

All workers engaged in activities related to the production of 8.6″ Boeing retract for PAVES in-flight entertainment systems at Rockwell Collins, Passenger Systems, Irvine, California (TA-W-39-179) and Pomona, California (TA-W-39, 179A), who became totally or partially separated from employment on or after April 19, 2000 through July 16, 2003, are eligible to apply for adjustment assistance under section 223 of the Trade Act of 1974.

Signed at Washington, D.C. this 27th day of September 2001.
Linda G. Poole,
Certifying Officer, Division of Trade Adjustment Assistance.

[FR Doc. 01-26045 Filed 10-16-01; 8:45 am]

BILLING CODE 4310-30-M